DEPARTMENT OF COMMERCE

National Oceanic and Atmospheric Administration

RIN 0648-XQ96

Endangered and Threatened Species; Take of Anadromous Fish

AGENCY: National Marine Fisheries Service (NMFS), National Oceanic and Atmospheric Administration (NOAA), Commerce.

ACTION: Receipt of an application for a scientific research permit; request for comments.

SUMMARY: Notice is hereby given that NMFS has received an application for a scientific research permit from Dr. Jerry J. Smith (14516). This document serves to notify the public of the availability of the permit application for review and comment.

DATES: Written comments on the permit application must be received no later than 5 p.m. Pacific Standard Time on September 16, 2009.

ADDRESSES: The application and related documents are available for review by selecting “Records Open for Public Comment” from the Features box on the Applications and Permits for Protected Species (APPS) home page, https://apps.nmfs.noaa.gov, and then selecting File No. 14516 from the list of available applications.

These documents are also available upon written request or by appointment, for Permit 14516: Protected Resources Division, NMFS, 777 Sonoma Avenue, Room 315, Santa Rosa, CA 95404 ph: (707) 575-6097, fax: (707) 578-3435).

Written comments on this application should be submitted to the address listed above. Comments may also be submitted by facsimile to (707) 578-3435, or by email to FRNpermits.SR@noaa.gov. Please include File No. 14516 in the subject line of the email comment.

FOR FURTHER INFORMATION CONTACT: Jeffrey Jahn at phone number (707) 575-6097, or e-mail: Jeffrey.Jahn@noaa.gov.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to federally endangered Central California Coast (CCC) coho salmon (Oncorhynchus kisutch) and threatened CCC steelhead (O. mykiss).

Application Received

Dr. Smith requests a 5-year permit (14516) for take of adult and juvenile CCC coho salmon and CCC steelhead associated with two projects in Santa Cruz and San Mateo counties within central California.

Project 1 is the continuation of a long-term study of juvenile CCC coho salmon and CCC steelhead abundance in the Gazos, Waddell and Scott creek watersheds. The project will include electrofishing in fall at multiple sites in each stream to determine juvenile CCC coho salmon and CCC steelhead abundance, conduct an inventory of general habitat conditions, and to assess the effects of habitat conditions on salmonid distribution and survival. These data will be used to demonstrate year-class strength, spawning and redd survival conditions, adult migration access, broodyear legacy effects (general 3-year coho salmon life cycle), and an index of ocean survival. This project will also include seasonal sampling of CCC coho salmon and CCC steelhead in Gazos, Waddell and Scott creek lagoons by beach seine to provide information on relative abundance (using mark and recapture techniques), smolt and adult life history information from scales, and growth. Collection of scales from a sub-sample of each species and life stage is requested to determine age, growth rates, and changes in habitat use over time and tissue samples (fin-clips) are requested for CCC coho salmon for genetic analyses. In addition, this project will include winter carcass surveys for CCC coho salmon in order to determine sex ratios, proportion of wild versus hatchery origin, gather scales for age determination and life history strategy, and to obtain fin clips for genetic analysis. Ultimately, these data are being used to guide the placement of hatchery reared CCC coho salmon smolts intended to improve weak or lost year classes in these systems. Requested unintentional mortality for juveniles and smolts of both species is two percent and there is no unintentional mortality requested for adults.

Project 2 involves seasonal sampling of CCC steelhead and CCC coho salmon in Pescadero and San Gregorio creek lagoons to determine their abundance (using mark and recapture techniques), growth rates, and to determine smolt and adult life history information from scales. Sampling in late summer and fall will provide information on relative abundance and growth rates while sampling in spring will provide information on smolt abundance and growth during their rearing phase the previous year as well as the spring of their outmigration. Scales collected from a sub-sample of smolt and adult steelhead will be used to provide an index of where they reared as juveniles and to determine age and growth rates. This project also includes creel surveys at Pescadero Lagoon in order to collect scales and length measurements of adult CCC steelhead captured by fisherman during the catch and release fishing season. Data gathered from this project will contribute to the overall understanding and importance of lagoon habitats for these species. In particular, data gathered from Pescadero Lagoon may provide federal and state agencies with important information on the year-to-year impact of re-occurring fish kills during sand bar breach events on the overall production of salmonids in this system. Requested unintentional mortality for juveniles and smolts of both species is two percent and there is no unintentional mortality requested for adults.

Dated: August 11, 2009.
Therese Conant,
Acting Division Chief, Endangered Species Division, Office of Protected Resources, National Marine Fisheries Service.

[FR Doc. E9-19719 Filed 8-14-09; 8:45 am]

BILLING CODE 3510-22-S